DEPARTMENT OF DEFENSE

Department of the Army; Corps of Engineers

Notice of Availability of a Draft Integrated System Investment Plan and Programmatic Environmental Impact Statement for the Ohio River Mainstem System Study

AGENCY: Department of the Army, U.S. Army Corps of Engineers, DoD.

ACTION: Notice of availability.

SUMMARY: a. Pursuant to the National Environmental Policy Act (NEPA), the Great Lakes and Ohio River Division of the U.S. Army Corps of Engineers (Corps) is seeking comments on a draft System Investment Plan and Programmatic Environmental Impact Statement (SIP/PEIS) that evaluates alternative investment strategies for the maintenance of commercial navigation infrastructure along with the ecosystem sustainability needs on the Ohio River System for the next 60 years.

b. The primary purpose of the Ohio River Mainstem Systems Study (ORMSS) is to develop the best SIP for maintaining safe, environmentally sustainable, and reliable navigation on the Ohio River over a 60-year period from 2010 to 2070. The study evaluated the operation and maintenance, rehabilitation, and construction reinvestment needs at the 19 navigation lock and dam sites on the Ohio River Mainstem. The study reports on five plans for meeting these needs based on five different traffic forecast scenarios. The future reliable operation of these structures is critical to the continued growth in commercial navigation throughout the Ohio River basin. In response to stakeholder input, the study purpose was modified to include the identification of measures to improve ecological sustainability to provide a balance between economic and environmental improvements.

c. In order to facilitate review, the Corps will be conducting six public meetings along the Ohio River to solicit comments on its proposed plan. (See SUPPLEMENTARY INFORMATION for dates, times and locations).

d. The Corps will be providing copies of the SIP/PEIS at numerous locations for review by the public. (See SUPPLEMENTARY INFORMATION for locations).

e. The review and comment period for this draft document will be 60 days.

DATES: Submit comments on or before July 25, 2006.

ADDRESSES: Send all written comments and queries concerning this draft report to Mr. Jeffrey Benedict, U.S. Army Corps of Engineers, Pittsburgh District, William S. Morehead Building, 1000 Liberty Avenue, Pittsburgh, PA 15222-4186. Telephone: (412) 395-7202. Electronic mail: celrl-ormss@lrl02.usace.army.mil. Fax: (412) 644-2673.

FOR FURTHER INFORMATION CONTACT: Mr. Veronica Rife, U.S. Army Corps of Engineers, Louisville District, 600 Dr. Martin Luther King, Jr. Place, Louisville, KY 40202. Telephone: (502) 315-6785. Electronic mail: celrl-ormss@lrl02.usace.army.mil.

SUPPLEMENTARY INFORMATION: 1. Authority: The proposed action is being conducted under the authority of United States Senate, Committee on Public Works resolution dated May 16, 1955; and United States House of Representatives, Committee on Public Works and Transportation resolution dated March 11, 1982.

2. Background: a. The ORMSS draft report is an integrated System Investment Plan (SIP) and Programmatic Environmental Impact Statement (PEIS). The PEIS is centered on a system-wide Cumulative Effects Assessment (CEA) and other studies that focused on specific issues identified through the study scoping process.

b. A variety of stakeholders participated in the development of the study through forums as varied as public meetings and workshops with industry groups, environmental groups, and academia. The ORMSS study team has solicited input and shared work with interested stakeholders through various communication channels.

c. The major engineering and economic variables in developing a system investment plan for the mainstem locks are lock condition and traffic demand. Forecasts of both variables are uncertain giving rise to the need for a risk based analysis to insure that the study conclusions and recommendations cover the plausible range of future scenarios. Engineering reliability models were used to analyze lock component reliability and capture the uncertainty of lock performance while accommodating forecasted traffic demand. Multiple traffic forecasts were used to model river traffic. Five forecasts were developed for the study, each recognizing that the primary driver of river traffic is utility coal at 50-60% of system tonnage transported.

d. The with-project condition (WPC) is the plan that best addresses the stated planning objectives and addresses the problems and opportunities. The planning objectives were: Ensuring Future Navigability, Improving Navigation Efficiency, and Enhancing Environmental Sustainability. To achieve these objectives, the study team developed and evaluated alternative actions ranging from proactive maintenance and small scale improvements to large-scale construction reinvestments. Proactive maintenance occurs when lock components are replaced or a lock is rehabilitated in advance of component(s) failure. Small-scale improvements considered include floating buoys, permanent mooring cells near lock approach points, and other infrastructure or procedural opportunities. Large-scale reinvestments evaluated include chamber rehabilitations, construction of new larger lock chambers, and 600 extensions of some auxiliary lock chambers.

e. Two ecosystem sustainability alternatives were formulated for the WPC analysis to address long-term sustainability of aquatic and riparian ecological resources. The Moderate and Maximum Ecosystem Sustainability Related plans were developed based on expected costs, need for modified or additional authority, complexity, and several scientific, policy, funding and timing uncertainties of various measures. A total of 26 ecosystem sustainability measures were evaluated; 12 specific types of measures in addition to the 14 from the Without Project Condition (WOPC). The Moderate plan included 19 of the measures and the Maximum Plan consists of all 26 measures.

f. The WOPC is the most likely condition expected to exist in the future in the absence of implementation of water resource project investment alternative(s). The future WOPC constitutes the benchmark against which alternative plans are evaluated. For this study, the WOPC was formulated as the least Federal cost plan providing viable navigation on the Ohio River Mainstem. The WOPC as developed is a reactive maintenance strategy for major lock components. This assumes that as a component fails, it is repaired in a timely fashion; however, no proactive maintenance is performed, i.e., components are not repaired or replaced in anticipation of failure.

g. The ORMSS draft SIP recommendations follow:

• Increase Operation and Maintenance (O&M) investments to maximize economic efficiency. Complete all authorized navigation improvements; Olmsted, JT Myers, McAlpine, Greenup, Lower Monongahela, Kentucky Lock and Chickamauga.

• Provide optimal funding for the Upper Ohio River Study currently underway in order for this project to be included in a WRDA in the FY 2010 time frame.

• Initiate main chamber rehabilitation studies for Meldahl, Hannibal, and Myers and complete by 2009. Initiation of design of these efforts should begin in 2010.

• Pursue planning and implementation of measures to improve environmental sustainability in collaboration with other interests.

• Initiate preparation of the Program Implementation Plan for the Ohio River Ecosystem Restoration Program.

• Incorporate all Reasonable and Prudent Measures into the Operation and Maintenance of the river.

• Complete work on the Markland gates as soon as possible. Funds provided in FY 2006 will initiate design and continued funding in FY 2007 and 2008 will construct the gates and place them in service.

• All detailed evaluation of site-specific impacts for follow on studies and other actions would be tiered from the SIP/PEIS.

• Initiate the Ohio River Basin Comprehensive Study in order to assess water resource opportunities throughout the basin in collaboration with other interests. Planning efforts should include identification and evaluation of opportunities to improve environmental sustainability throughout the basin including the tributaries.

• Establish a stand alone program (Ohio River Navigation System Investment Program) to update the data and models used in preparing the System Investment Plan. Expand the program capability to include the Ohio River dams and include tributary (Allegheny, Monogahela, Kanawha, Green, Tennessee and Cumberland Rivers) locks and dam structures to support navigation investment decisions and manage future system risk. Use these tools in annual budget formulation.

• Use the Ohio River Navigation System Investment Program to reexamine the medium and long term needs identified in the SIP to optimize investments on these projects.

• All detailed evaluation of site-specific impacts for follow on studies and other actions would be tiered from the SIP/PEIS.

• The System Investment Plan was not developed considering a constrained federal budget or considering the total Ohio River System. Follow on actions need to be conducted to analyze investment strategies with a constrained federal budget and expanded to include all navigation locks, dams and channels on the Ohio River and its navigable tributaries.

3. Public Participation: a. In order to facilitate review, the Corps will be conducting six public meetings along the Ohio River to solicit comments on this proposed plan. The meeting dates, times and locations are:

• June 19, 2006. Open Forum 6 p.m. to 7 p.m., Public Meeting 7 p.m. to 9 p.m., Community College of Beaver County, Allied Health Building Auditorium, One Campus Drive, Monaca, PA 15061.

• June 20, 2006, Open Forum 6 p.m. to 7 p.m., Public Meeting 7 p.m. to 9 p.m., Holiday Inn, 701 Pike Street, Marieta, OH 45750.

• June 21, 2006, Open Forum 6 p.m. to 7 p.m., Public Meeting 7 p.m. to 9 p.m., Big Sandy Superstore Arena, 3rd Ave. and 8th Street, Huntington, WV 25701.

• June 27, 2006, Opera Forum 6 p.m. to 7 p.m., Public Meeting 7 p.m. to 9 p.m., Banterra Bank—Large Conference Room, 101 West Eighth Street, Metropolis, IL 62960.

• June 28, 2006, Open Forum 6 p.m. to 7 p.m., Public Meeting 7 p.m. to 9 p.m. Victory Theater, 5th Floor Banquet Room, 600 Main Street, Evansville, IN 47708.

• June 29, 2006, Open Forum 6 p.m. to 6:30 p.m., Public Meeting 6:30 p.m. to 8:30 p.m., Kenton County Public Library—Large Meeting Room, 505 Scott Blvd., Covington, KY 41011.

b. The Corps will be providing copies of the SIP/PEIS at numerous locations for review by the public. All locations can be found on the Web at: http://www.lrl.usace.army.mil/ORMSS/, by e-mailing an inquiry to celrl-ormss@lrl02.usace.army.mil or by calling Jane Ruhl at (502) 315-6862.

c. In addition, the public can download a copy of the document off the Web at: http://www.lrl.usace.army.mil/ORMSS/.

Brenda S. Bowen,
Army Federal Register Liaison Officer.

[FR Doc. 06-4884 Filed 5-25-06; 8:45am]

BILLING CODE 3710-GM-M